DEPARTMENT OF THE INTERIOR

Bureau of Land Management

[LLOR936000.L14400000.ET0000.16XL1109AF; HAG 16-0170; OR50483]

Public Land Order No. 7858; Extension of Public Land Order No. 7233, Rogue River; Oregon

AGENCY: Bureau of Land Management, Interior.

ACTION: Public Land Order.

SUMMARY: This order extends the duration of the withdrawal created by Public Land Order No. 7233 for an additional 20-year period, which would otherwise expire on January 1, 2017. Public Land Order No. 7233 withdrew 2,090 acres of National Forest System lands within the Rogue River-Siskiyou National Forest from location and entry under the United States mining laws, but not from leasing under the mineral leasing laws. This extension is necessary to continue to protect the Rabbit Ears-Falcon Wildlife Area, Rogue River Wild and Scenic Corridor, Union Creek Historic District, Abbot Creek and Mill Creek Recreation Sites, and the Prospect Ranger Station Administrative Site.

DATES: This Public Land Order is effective on January 2, 2017.

FOR FURTHER INFORMATION CONTACT: Jacob Childers, Bureau of Land Management, Oregon/Washington State Office, 503-808-6225. Persons who use a telecommunications device for the deaf (TDD) may call the Federal Relay Service at 1-800-877-8339 to reach the above individual. The Service is available 24 hours a day, 7 days a week, to leave a message or question with the above individual. You will receive a reply during normal business hours.

SUPPLEMENTARY INFORMATION: The purpose for which the withdrawal was first made requires this extension to continue to protect a wildlife area, wild and scenic river corridor, historic district, two recreational sites, and a ranger station administrative site. The lands will remain open to such forms of disposition as may be authorized on National Forest System lands and to mineral leasing.

Order

By virtue of the authority vested in the Secretary of the Interior by Section 204 of the Federal Land Policy and Management Act of 1976, 43 U.S.C. 1714, it is ordered as follows:

Public Land Order No. 7233 (62 FR 104 (1997)), which withdrew 2,090 acres of National Forest System Lands within the Rogue River-Siskiyou National Forest in Oregon from location and entry under the United States mining laws, but not from leasing under the mineral leasing laws, is hereby extended for an additional 20-year period. The withdrawal extended by this order will expire on January 1, 2037, unless, as a result of a review conducted prior to the expiration date pursuant to Section 204(f) of the Federal Land Policy and Management Act of 1976, 43 U.S.C. 1714, the Secretary determines that the withdrawal shall be further extended.

Janice M. Schneider,
Assistant Secretary—Land and Minerals Management.

[FR Doc. 2016-29721 Filed 12-9-16; 8:45 am]

BILLING CODE 3411-15-P